DEPARTMENT OF COMMERCE

National Oceanic and Atmospheric Administration

Public Comment on the Annotated Outline of the Fifth National Climate Assessment

AGENCY: Office of Oceanic and Atmospheric Research (OAR), National Oceanic and Atmospheric Administration (NOAA), Department of Commerce, (DOC).

ACTION: Notice of request for public comment and public engagement on the Annotated Outlines for the Fifth National Climate Assessment.

SUMMARY: This notice sets forth the U.S. Global Change Research Program seeks public comment on the proposed themes and framework of the Fifth National Climate Assessment as indicated by the chapter annotated outlines linked here. Based on input received from this notice, chapter author teams will develop their draft chapters.

DATES: Comments must be submitted to the web address specified below and received by 45 days after the publication date of this FRN.

ADDRESSES: Comments from the public will be accepted electronically via http://www.globalchange.gov/notices. Instructions for submitting comments are available on the website. Submitters may enter text or upload files in response to this notice.

FOR FURTHER INFORMATION CONTACT: Chris Avery, (202) 419-3474, cavery@usgcrp.gov, U.S. Global Change Research Program.

SUPPLEMENTARY INFORMATION: The U.S. Global Change Research Program (USGCRP) is mandated under the Global Change Research Act (GCRA) of 1990 to conduct a quadrennial National Climate Assessment. The most recent was completed in 2018 and delivered in two volumes: The Climate Science Special Report (science2017.globalchange.gov) and Impacts, Risks, and Adaptation in the United States (nca2018.globalchange.gov).

In addition to these two volumes, other recent assessments by the U.S. Government will inform the Fifth National Climate Assessment (NCA5), including the Second State of the Carbon Cycle Report (carbon2018.globalchange.gov); the Impacts of Climate Change on Human Health in the United States (health2016.globalchange.gov); and Climate Change, Global Food Security, and the U.S. Food System (https://www.usda.gov/oce/energy-and-environment/food-security) As with all previous USGCRP assessments, NCA5 development will be transparent and inclusive, offering opportunities for public participation throughout the process. The production and review processes are designed to result in a report that is authoritative, timely, relevant, and policy neutral; valued by authors and users; accessible to the widest possible audience; and fully compliant with the GCRA.

Background information, additional details, and instructions for submitting comments can be found at http://www.globalchange.gov/notices. Responses to this Request for Comment can be entered via that website.

The U.S. Global Change Research Program seeks public comment on the Annotated Outlines of each chapter of the Fifth National Climate Assessment (NCA5), in particular on the scope and framing of chapter's proposed topic areas. Input received on proposed themes within each chapter's Annotated Outline will be used by chapter author teams to develop their draft chapters.

Authors of each chapter of NCA5 will develop chapter content structured around the topic areas proposed in the Annotated Outlines, highlighting the risk climate change poses to the things Americans value. All chapters are charged with focusing on scientific advancements since the last assessment was released in 2018. Because Chapter 1 is an overview summary of the final report, there is no Annotated Outline for Chapter 1 at this time.

Response to this Request for Comment is voluntary. Respondents need not reply to all questions or topics. Responses may be used by the U.S. Government for program planning on a non-attribution basis. NOAA therefore requests that no business proprietary information or copyrighted information be submitted in response to this Request for Comment. Please note that the U.S. Government will not pay for response preparation, or for the use of any information contained in the response.

The full list of NCA5 chapters is below and can also be found https://www.globalchange.gov/nca5. Chapter titles reflect the target topics or regions for the chapters. Final titles for the chapter may evolve as authors assess published literature.

Introduction and Summary

1. Overview (not included in this review)

Physical Sciences

2. Earth Systems Processes

3. Climate Trends

National Topics

4. Water

5. Energy

6. Land Cover & Land-Use Change

7. Forests

8. Ecosystems

9. Coastal Effects

10. Oceans

11. Agriculture, Food Systems, and Rural Communities

12. Built Environment

13. Transportation

14. Air Quality

15. Human Health

16. Tribes & Indigenous Peoples

17. U.S. International Interests

18. Complex Systems

19. Economics

20. Human Social Systems

Regions

21. Northeast

22. Southeast

23. U.S. Caribbean

24. Midwest

25. Northern Great Plains

26. Southern Great Plains

27. Northwest

28. Southwest

29. Alaska

30. Hawai'i & U.S.-Affiliated Pacific Islands

Response

31. Adaptation

32. Mitigation

As noted in a previous Notice from October 2020 (https://www.federalregister.gov/documents/2020/10/15/2020-22729/request-for-public-nominations-for-authors-and-scientifictechnical-inputs-and-notice-of-planned), public engagement efforts by the author teams will be undertaken while this Notice is available for comment.

Chapters will hold virtual public engagement workshops to allow interested members of the public to provide feedback on a chapter's Annotated Outlines to the author teams. The schedule for these workshops and registration opportunities has been posted on https://www.globalchange.gov/nca5 and announced in the USGCRP newsletter.

Eric Locklear,
Acting Chief Financial Officer/Administrative Officer, Office of Oceanic and Atmospheric Research, National Oceanic and Atmospheric Administration.

[FR Doc. 2022-00097 Filed 1-6-22; 8:45 am]

BILLING CODE 3510-KB-P